Title 3—

The President

Executive Order 13499 of February 5, 2009

Further Amendments to Executive Order 12835, Establishment of the National Economic Council

By the authority vested in me as President by the Constitution and the laws of the United States of America, it is hereby ordered as follows:

Executive Order 12835 of January 25, 1993, as amended, is further amended by:

(a) inserting “(l) Secretary of Health and Human Services; (m) Secretary of Education; (n) Senior Advisor and Assistant to the President for Intergovernmental Affairs and Public Liaison; (o) Assistant to the President for Energy and Climate Change; (p) Assistant to the President and Chief Technology Officer; (q) Administrator of the Small Business Administration” after “(k) Secretary of Homeland Security;” in section 2; and

(b) relettering the subsequent subsections in section 2 appropriately.

THE WHITE HOUSE,

February 5, 2009.

[FR Doc. E9-3106

Filed 2-10-09; 1:00 pm]

Billing code 3195-W9-P